EXPORT-IMPORT BANK

[Public Notice 2014-6001]

Agency Information Collection Activities: Comment Request

AGENCY: Export-Import Bank of the United States.

ACTION: Submission for OMB review and comments request.

Form Title: EIB 10-03 Notice of Claim and Proof of Loss, Export Credit Insurance Policies.

SUMMARY: The Export-Import Bank of the United States (Ex-Im Bank), as part of its continuing effort to reduce paperwork and respondent burden, invites the general public and other Federal Agencies to comment on the proposed information collection, as required by the Paperwork Reduction Act of 1995.

This collection of information is necessary, pursuant to 12 U.S.C. 635 (a)(1), to determine if a claim complies with the terms and conditions of the relevant insurance policy. In the event that a buyer defaults on a transaction insured by Ex-Im Bank the insured exporter or lender may seek payment by the submission of a claim. The Notice of Claim and Proof of Loss, Export Credit Insurance Policies is used to determine compliance with the terms of the insurance policy and the appropriateness of paying a claim. Export-Import Bank customers are able to submit this form on paper or electronically.

The information collection tool can be reviewed at: http://www.exim.gov/pub/pending/eib10-03.pdf.

DATES: Comments must be received on or before March 31, 2014 to be assured of consideration.

ADDRESSES: Comments may be submitted electronically on WWW.REGULATIONS.GOV or by mail to Michele Kuester, Export-Import Bank of the United States, 811 Vermont Ave. NW. Washington, DC 20571.

SUPPLEMENTARY INFORMATION: Title and Form Number: EIB 10-03 Notice of Claim and Proof of Loss, Export Credit Insurance Policies.

OMB Number: 3048-0033.

Type of Review: Regular.

Need and Use: This collection of information is necessary, pursuant to 12 U.S.C. 635(a)(1), to determine if such claim complies with the terms and conditions of the relevant insurance policy.

Affected Public: This form affects entities involved in the export of U.S. goods and services.

Annual Number of Respondents: 300.

Estimated Time per Respondent: 1 hour.

Annual Burden Hours: 300 hours.

Frequency of Reporting of Use: As needed to request claim payment.

Government Expenses:

Reviewing time per year: 300 hours.

Average Wages per Hour: $42.50.

Average Cost per Year: $12,750 (time*wages).

Benefits and Overhead: 20%.

Total Government Cost: $15,300.

Toya Woods,
Records Analyst, Records Management Division, Office of the Chief Information Officer.

[FR Doc. 2014-01862 Filed 1-29-14; 8:45 am]

BILLING CODE 6690-01-P